DEPARTMENT OF THE INTERIOR

Bureau of Land Management

[BLM_NV_FRN_MO4500173782]

Notice To Segregate Lands From Mineral Entry for the Proposed Libra Solar Project in Mineral County, Nevada

AGENCY: Bureau of Land Management, Department of Interior.

ACTION: Notice of segregation.

SUMMARY: Through this notice, the Bureau of Land Management (BLM) is segregating public lands for the Libra Solar Project right-of-way application from appropriation under the public land laws, including the Mining Law, for a period of 2 years from the date of publication of this notice in the Federal Register, subject to valid existing rights. This segregation is to allow for the orderly administration of the public lands to facilitate consideration of development of renewable energy resources. The public lands segregated by this notice total 120 acres.

DATES: This segregation for the lands identified in this notice is effective on February 2, 2024.

FOR FURTHER INFORMATION CONTACT: Terah Malsam, Realty Specialist, telephone (775) 885-6153; address 5665 Morgan Mill Road, Carson City, NV 89701; email blm_nv_ccdo_libra_solar@blm.gov. Individuals in the United States who are deaf, deafblind, hard of hearing, or have a speech disability may dial 711 (TTY, TDD, or TeleBraille) to access telecommunications relay services for contacting Melanie Hornsby. Individuals outside the United States should use the relay services offered within their country to make international calls to the point-of-contact in the United States.

SUPPLEMENTARY INFORMATION: On April 24, 2023, the Notice of Intent to segregate lands and prepare an environmental impact statement for the proposed Libra Solar Project was published in the Federal Register (88 FR 24827). This announced the segregation of 5,500 acres of public lands for the proposed project. This notice effectively adds 120 acres to the segregation for a total of 5,620 acres of public land.

Regulations found at 43 CFR 2091.3-1(e) and 43 CFR 2804.25(f) allow the BLM to temporarily segregate public lands within a right-of-way application area for solar energy development from the operation of the public land laws, including the Mining Law, by publication of a Federal Register notice. The BLM uses this temporary segregation authority to preserve its ability to approve, approve with modifications, or deny proposed rights-of-way, and to facilitate the orderly administration of the public lands. This temporary segregation is subject to valid existing rights, including existing mining claims, located before this segregation notice. Licenses, permits, cooperative agreements, or discretionary land use authorizations of a temporary nature that would not impact lands identified in this notice may be allowed with the approval of an authorized officer of the BLM during the segregation period. The lands segregated under this notice are legally described as follows:

Mount Diablo Meridian, Nevada

T. 12 N., R. 27 E.,

Sec. 32, N½SE¼;

Sec. 35, NE¼ SW¼.

The areas described aggregate 120 acres, according to the official plat of the survey on file with the BLM.

As provided in the regulations, the segregation of lands in this notice will not exceed 2 years from the date of publication unless extended for up to 2 additional years through publication of a new notice in the Federal Register. Termination of the segregation occurs on the earliest of the following dates: upon issuance of a decision by the authorized officer granting, granting with modifications, or denying the application for a ROW; automatically at the end of the segregation; or upon publication of a Federal Register notice of termination of the segregation.

Upon termination of segregation of these lands, all lands subject to this segregation would automatically reopen to appropriation under the public land laws.

(Authority: 43 CFR 2091.3-1e and 43 CFR 2804.25(f))

Kimberly D. Dow,
District Manager.

[FR Doc. 2024-02066 Filed 2-1-24; 8:45 am]

BILLING CODE 4331-21-P